DEPARTMENT OF LABOR

Employment and Training Administration

Senior Community Service Employment Program; Notice of Town Hall Meeting on the 2000 Amendments to the Older Americans Act

AGENCY: Employment and Training Administration, Labor.

ACTION: Notice of Town Hall Meeting.

SUMMARY: Notice is given of the first in a series of Town Hall Meetings that the Department of Labor intends to convene to assist in the identification of issues to be addressed in the implementation of changes to the Senior Community Service Employment Program (SCSEP) occasioned by the Older Americans Act Amendments of 2000, and to obtain the benefit of various practitioners' concerns and experiences in the operation of the SCSEP. Town Hall Meetings will be held in various locations throughout the country, in order to facilitate the participation of all interested individuals.

DATES: The first Town Hall Meeting will be held on Monday, January 22, 2001, from 7:00 p.m. to 9:00 p.m. The date, location and time for subsequent Town Hall Meetings will be announced in advance in the Federal Register.

ADDRESSES: The first Town Hall Meeting will be held at the Westin Peachtree Plaza Hotel at 210 Peachtree Street, NW., Atlanta, Georgia, in conjunction with the National Older Worker Conference sponsored by the National Association of State Units on Aging.

FOR FURTHER INFORMATION CONTACT: Mr. Erich W. (“Ric”) Larisch, Chief, Division of Older Worker Programs, U.S. Department of Labor, 200 Constitution Avenue, NW., Room N4644, Washington, DC 20210, Telephone: (202) 693-3742 (voice) TTY (202) 693-2871 (these are not toll-free numbers).

SUPPLEMENTARY INFORMATION: The purpose of the Town Hall Meetings is to provide each interested individual with an opportunity to comment on the Department of Labor's approach to the implementation of changes to the SCSEP occasioned by the revisions to title V of the Older Americans Act Amendments of 2000 (OAA) (Pub. L. 106-501) (dated November 13, 2000). Each attendee is welcome to offer comments on a variety of subjects, including: (1) Issues and concerns that should be addressed in regulations; (2) issues and concerns that should be addressed in policy guidance; (3) suggestions and comments on the overall implementation plan, such as consultation strategies; (4) specific suggestions on the approach that should be taken in implementing any or all of the new title V provisions; and (5) suggestions on revisions that should be made to the existing title V regulations which were published in the Federal Register on Wednesday, May 17, 1995 (20 CFR part 641).

PUBLIC PARTICIPATION:

All interested individuals are invited to attend this Town Hall Meeting.

Persons wishing to make statements or presentations at the Town Hall Meetings should limit oral statements to 5 minutes, but extended written statements may be submitted for the record. Written statements may also be submitted without presenting oral statements. Individuals may submit written comments to the Employment and Training Administration, Division of Older Worker Programs, 200 Constitution Avenue, NW., Room N4644, Washington. DC 20210, Attention: Mr. Erich W. (“Ric”) Larisch.

Minutes of all Town Hall Meetings and summaries of other documents will be available to the public on the SCSEP website http://www.wdsc.org/owprog. Any written comments on the minutes should be directed to Mr. Erich W. (“Ric”) Larisch, as shown above.

Individuals with disabilities who are planning to attend the Atlanta Town Hall Meeting should contact Ms. Theresa Lambert of the National Association of State Units on Aging at (202) 898-2578, (this is not a toll-free number) if special accommodations are needed.

Signed at Washington DC, this 17 day of January, 2001.
Raymond L. Bramucci,
Assistant Secretary of Labor.

[FR Doc. 01-1801 Filed 1-19-01; 8:45 am]

BILLING CODE 4510-30-U